DEPARTMENT OF ENERGY

Federal Energy Regulatory Commission

Combined Notice of Filings #1

Take notice that the Commission received the following electric corporate filings:

Docket Numbers: EC18-35-000.

Applicants: Michigan Electric Transmission Company, LLC.

Description: Application for Approval of Acquisition of Assets Pursuant to Section 203 of the Federal Power Act of Michigan Electric Transmission Company, LLC.

Filed Date: 12/18/17.

Accession Number: 20171218-5231.

Comments Due: 5 p.m. ET 1/8/18.

Take notice that the Commission received the following electric rate filings:

Docket Numbers: ER10-2570-033.

Applicants: Shady Hills Power Company, L.L.C.

Description: Updated Market Power Analysis for the Southeast Region of Shady Hills Power Company, L.L.C.

Filed Date: 12/18/17.

Accession Number: 20171218-5235.

Comments Due: 5 p.m. ET 2/16/18.

Docket Numbers: ER10-3099-018.

Applicants: RC Cape May Holdings, LLC.

Description: Supplement to June 30, 2017 Triennial Market-Based Rate Update Filing for the Northeast Region of RC Cape May Holdings, LLC.

Filed Date: 12/15/17.

Accession Number: 20171215-5245.

Comments Due: 5 p.m. ET 1/5/18.

Docket Numbers: ER10-3145-010; ER10-3116-010; ER13-1544-007; ER10-3120-010; ER11-2036-010; ER16-930-004; ER10-3128-010; ER10-1800-011; ER10-3136-010; ER11-2701-012; ER10-1728-010; ER15-1582-009; ER15-1579-008; ER15-1914-010; ER16-1255-004; ER16-2201-003; ER16-1955-004; ER17-1864-002; ER17-1871-002; ER17-1909-002; ER17-544-003; ER17-306-003; ER16-1738-004; ER16-474-005; ER16-1901-004; ER16-468-004; ER15-2679-006; ER16-2578-004; ER16-2541-003; ER15-2680-006; ER15-762-010; ER16-2224-003; ER16-890-005; ER15-760-009; ER16-1973-004; ER16-1956-004.

Applicants: AES Alamitos, LLC, AES Energy Storage, LLC, AES ES Tait, LLC, AES Huntington Beach, L.L.C., AES Laurel Mountain, LLC, AES Ohio Generation, LLC, AES Redondo Beach, L.L.C., Indianapolis Power & Light Company, Mountain View Power Partners, LLC, Mountain View Power Partners IV, LLC, The Dayton Power and Light Company, 65HK 8me LLC, 67RK 8me LLC, 87RL 8me LLC, Antelope Big Sky Ranch LLC, Antelope DSR 1, LLC, Antelope DSR 2, LLC, Bayshore Solar A, LLC, Bayshore Solar B, LLC, Bayshore Solar C, LLC, Beacon Solar 1, LLC, Beacon Solar 3, LLC, Beacon Solar 4, LLC, Central Antelope Dry Ranch C LLC, Elevation Solar C LLC, FTS Master Tenant 1, LLC, Latigo Wind Park, LLC, North Lancaster Ranch LLC, Pioneer Wind Park I LLC, Sandstone Solar LLC, Sierra Solar Greenworks LLC, Solverde 1, LLC, Summer Solar LLC, Western Antelope Blue Sky Ranch A LLC, Western Antelope Blue Sky Ranch B LLC, Western Antelope Dry Ranch LLC.

Description: Triennial Market Power Update of the AES MBR Affiliates for the Central Region.

Filed Date: 12/18/17.

Accession Number: 20171218-5238.

Comments Due: 5 p.m. ET 2/16/18.

Docket Numbers: ER17-2536-001.

Applicants: Pacific Gas and Electric Company.

Description: Tariff Amendment: Answer to Port of Oakland IA Deficiency to be effective 2/1/2018.

Filed Date: 12/18/17.

Accession Number: 20171218-5206.

Comments Due: 5 p.m. ET 1/8/18.

Docket Numbers: ER18-215-001.

Applicants: Interstate Power and Light Company.

Description: Tariff Amendment: Amendment to Proposed IPL Wholesale Formula Rate Changes to be effective 1/1/2018.

Filed Date: 12/18/17.

Accession Number: 20171218-5225.

Comments Due: 5 p.m. ET 1/8/18.

Docket Numbers: ER18-216-001.

Applicants: Wisconsin Power and Light Company.

Description: Tariff Amendment: Amendment to Proposed WPL Wholesale Formula Rate Changes to be effective 1/1/2018.

Filed Date: 12/18/17.

Accession Number: 20171218-5224.

Comments Due: 5 p.m. ET 1/8/18.

Docket Numbers: ER18-469-000.

Applicants: California Independent System Operator Corporation.

Description: § 205(d) Rate Filing: 2017-12-18 Filing of PSP Agreement with Placer County Water Agency to be effective 1/1/2018.

Filed Date: 12/18/17.

Accession Number: 20171218-5184.

Comments Due: 5 p.m. ET 1/8/18.

Docket Numbers: ER18-470-000.

Applicants: UGI Utilities Inc., PJM Interconnection, L.L.C.

Description: § 205(d) Rate Filing: UGI submits Interconnection and Operating Agreement, Service Agreement No. 1460 to be effective 12/13/2017.

Filed Date: 12/18/17.

Accession Number: 20171218-5194.

Comments Due: 5 p.m. ET 1/8/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 19, 2017.
Nathaniel J. Davis, Sr.,
Deputy Secretary.

[FR Doc. 2017-27834 Filed 12-26-17; 8:45 am]

BILLING CODE 6717-01-P